COMMISSION ON CIVIL RIGHTS

Membership of the USCCR Performance Review Board

AGENCY: U.S. Commission on Civil Rights.

ACTION: Notice of membership of the USCCR Performance Review Board.

SUMMARY: This notice announces the appointment of the Performance Review Board (PRB) of the United States Commission on Civil Rights. Publication of PRB membership is required by 5 U.S.C. 4314(c)(4).

The PRB provides fair and impartial review of the U.S. Commission on Civil Rights' Senior Executive Service performance appraisals and makes recommendations regarding performance ratings and performance awards to the Staff Director, U.S. Commission on Civil Rights for the FY2003 rating year.

FOR FURTHER INFORMATION CONTACT: Janice Minor, Human Resources Assistant, U.S. Commission on Civil Rights, 624 9th Street, NW., Washington, DC 20425, (202) 376-8364.

Members: Gloria Gutierrez, Deputy Administrator for Management, Food and Nutrition Service, USDA; Jill M. Crumpacker, Director, Policy & Performance Management, Chief, Human Capitol Officer, Federal Labor Relations Authority; Joseph Mancias, Senior Management Counsel, Department Homeland Security.

TinaLouise Martin,
Director of Human Resources, U.S. Commission on Civil Rights.

[FR Doc. 04-23573 Filed 10-20-04; 8:45 am]

BILLING CODE 6335-01-M